FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 019355N.

Name: ABAD Air, Inc.

Address: 10411 NW 28th Street, Ste. C-101, Miami, FL 33172.

Date Revoked: November 26, 2009.

Reason: Failed to maintain a valid bond.

License Number: 002853F.

Name: HPH International, Inc.

Address: 555 East Ocean Blvd., Ste. 217, Long Beach, CA 90802.

Date Revoked: December 8, 2009.

Reason: Surrendered license voluntarily.

License Number: 019598N.

Name: SCM Global, Inc.

Address: 1201 Corbin Street, Elizabeth, NJ 07201.

Date Revoked: November 30, 2009.

Reason: Surrendered license voluntarily.

Sandra L. Kusumoto,
Director, Bureau of Certification and Licensing.

[FR Doc. E9-30523 Filed 12-22-09; 8:45 am]

BILLING CODE 6730-01-P